DEPARTMENT OF HEALTH AND HUMAN SERVICES

Centers for Disease Control and Prevention

Disease, Disability, and Injury Prevention and Control Special Emphasis Panel: World Trade Center Responder Health Consortium, Request for Applications OH-04-004

In accordance with section 10(a)(2) of the Federal Advisory Committee Act (Pub. L. 92-463), the Centers for Disease Control and Prevention (CDC) announces the following meeting:

Name: Disease, Disability, and Injury Prevention and Control Special Emphasis Panel (SEP): World Trade Center Responder Health Consortium, Request for Applications OH-04-004.

Times and Dates:

6 p.m.-6:30 p.m., March 3, 2004 (open).

6:30 p.m.-8 p.m., March 3, 2004 (closed).

9 a.m.-5 p.m., March 4, 2004 (closed).

Place: Grand Hyatt Hotel, 1000 H Street, NW., Washington, DC 20001, telephone (202) 582-1234.

Status: Portions of the meeting will be closed to the public in accordance with provisions set forth in section 552b(c)(4) and (6), title 5 U.S.C., and the Determination of the Director, Management Analysis and Services Office, CDC, pursuant to Public Law 92-463.

Matters to be Discussed: The meeting will include the review, discussion, and evaluation of applications received in response to Request for Applications OH-04-004.

Contact Person for More Information: Price Connor, Ph.D., Scientific Review Administrator, National Institute for Occupational Safety and Health, Office of Extramural Programs CDC, 1600 Clifton Road, NE., Atlanta, GA 30333, MS E-74, Telephone (404) 498-2511.

The Director, Management Analysis and Services Office has been delegated the authority to sign Federal Register notices pertaining to announcements of meetings and other committee management activities, for both the CDC and the Agency for Toxic Substances and Disease Registry.

Dated: February 10, 2004.
Alvin Hall,
Director, Management Analysis and Services Office, Centers for Disease Control and Prevention (CDC).

[FR Doc. 04-3425 Filed 2-17-04; 8:45 am]

BILLING CODE 4163-19-P